DEPARTMENT OF HEALTH AND HUMAN SERVICES

National Institutes of Health

Center for Scientific Review; Amended Notice of Meeting

Notice is hereby given of a change in the meeting of the Biophysics of Neural Systems Study Section, October 3, 2013, 8:00 a.m. to October 3, 2013, 7:00 p.m., Hotel Monaco, 2 North Charles Street, Baltimore, MD 21201 which was published in the Federal Register on September 9, 2013, 78 FR 174 pgs. 55086-55087.

The meeting will start on November 20, 2013 at 8:00 a.m. and will end on November 20, 2013 at 7:00 p.m. The meeting location remains the same. The meeting is closed to the public.

Dated: October 24, 2013.
Carolyn A. Baum,
Program Analyst, Office of Federal Advisory Committee Policy.

[FR Doc. 2013-25656 Filed 10-29-13; 8:45 am]

BILLING CODE 4140-01-P